DEPARTMENT OF COMMERCE

International Trade Administration

[A-570-918]

Steel Wire Garment Hangers From the People's Republic of China: Final Results of Changed Circumstances Review, and Revocation in Part of Antidumping Duty Order

AGENCY: Import Administration, International Trade Administration, Department of Commerce

DATES: Effective Date: October 2, 2009.

SUMMARY: On March 19, 2009, the Department of Commerce (“Department”) published a notice of initiation and preliminary results of antidumping duty changed circumstances review with intent to revoke, in part, the antidumping duty order ¹ on steel wire garment hangers from the People's Republic of China (“PRC”) in the Federal Register. See Steel Wire Garment Hangers from the People's Republic of China: Initiation and Preliminary Results of Changed Circumstances Review, and Intent to Revoke Order in Part, 74 FR 11713 (March 19, 2009) (“Initiation and Preliminary Results”). The Department is now revoking the Order, in part, with regard to the following product: chrome-plated steel wire garment hangers with a diameter of 3.4 mm or greater.

¹ See Notice of Antidumping Duty Order: Steel Wire Garment Hangers from the People's Republic of China, 73 FR 58111 (Oct. 6, 2008) (“Order”).

FOR FURTHER INFORMATION CONTACT: Blaine Wiltse, Import Administration, International Trade Administration, U.S. Department of Commerce, 14th Street and Constitution Avenue, NW., Washington, DC 20230; telephone (202) 482-6345.

Background ²

² The Department received requests from American Hanger and Fixture Corporation on December 1, 2008, and from Econoco Corporation on December 3, 2008, for a scope ruling on whether its imports of chrome-plated hangers with a diameter of 4.0 mm and 3.4 mm, respectively, are covered by the Order. However, because the Department is, herein, revoking the Order, in part, as it applies to imports of chrome-plated steel wire garment hangers with a diameter of 3.4 mm or greater, we find that it is unnecessary to individually examine these scope requests as the products in question have been excluded from the scope of the Order through the final results of this changed circumstances review.

On February 3, 2009, the Department received a request on behalf of M&B Metal Products Company, Inc. (“Petitioner”), for revocation, in part, of the Order, pursuant to sections 751(b)(1) and 782(h) of the Tariff Act of 1930, as amended (“Act”), with respect to chrome-plated steel wire garment hangers with a diameter of 3.4 mm or greater. In its submission, Petitioner stated that it no longer had any interest in seeking antidumping relief from imports of such chrome-plated steel wire garment hangers, as defined in the “Scope of the Amended Order” section below. Petitioner further stated that domestic producers Shanti Industries Inc. (“Shanti”) and Metro Supply Company (“Metro”) (collectively, “Supporters”) support the request for a changed circumstances review that it filed on February 3, 2009. Additionally, Petitioner stated in its request that together it and the Supporters account for substantially all of the steel wire garment hangers production in the United States.

On March 19, 2009, the Department published a notice of Initiation and Preliminary Results of changed circumstances review with intent to revoke, in part, the Order with regard to chrome-plated steel wire garment hangers with a diameter of 3.4 mm or greater. We invited parties to comment on the preliminary results.

On April 1, 2009, the Department received comments from Merrick Engineering, Inc. (“Merrick”) in opposition to the changed circumstances review, challenging Petitioner and Supporters' claim that they represent substantially all production of the domestic like product. The Department received surrebuttal comments from Econoco Corporation on April 8, 2009, and from both Petitioner and Target Corporation on April 13, 2009.

On May 29, 2009, the Department requested domestic production data for the period April 1, 2008, through March 31, 2009, from Merrick and Petitioner. On June 5, 2009, and June 8, 2009, Petitioner and Merrick submitted responses to the Department's request for additional production information, respectively. On July 8, 2009, the Department requested that Petitioner and Merrick each submit their domestic production data, for the period April 1, 2008, through March 31, 2009, in the form of individual monthly production totals. On July 15, 2009, Merrick submitted its monthly production data to the Department. On July 15, 2009, Petitioner submitted monthly production data for itself and the companies Shanti, and Ganchos N.V. (“Ganchos”). On July 17, 2009, Petitioner resubmitted its, Shanti's, and Ganchos' monthly production data and included monthly production data for Metro. On August 19, 2009, Merrick withdrew its opposition ³ to the partial revocation of the Order with respect to chrome-plated steel wire garment hangers with a diameter of 3.4 mm or greater.

³ See Letter from Merrick, Re: Steel Wire Garment Hangers From the People's Republic of China; A-570-918; Notice of Withdrawal by Merrick Engineering, Inc., submitted on August 19, 2009.

On September 3, 2009, the Department requested comments from Petitioner with regard to the effective date for the final results of this changed circumstances review. On September 9, 2009, Petitioner submitted a letter in which it stated that it took no position regarding the effective date for the final results in this changed circumstances review. On September 11, 2009, the Department received comments from Target Corporation requesting that the final results of this changed circumstances review be applied retroactively to all unliquidated entries.

Scope of the Changed Circumstances Review

The merchandise covered by this changed circumstances review is steel wire garment hangers from the PRC meeting the following criteria: the steel wire garment hanger must be chrome-plated with a diameter of 3.4 mm or greater. Effective upon publication of these final results of changed circumstances review in the Federal Register, the amended scope of the Order will read as stated below.

Scope of the Amended Order

The merchandise that is subject to the order is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers. Specifically excluded from the scope of the order are wooden, plastic, and other garment hangers that are not made of steel wire. Also excluded from the scope of the order are chrome-plated steel wire garment hangers with a diameter of 3.4 mm or greater. The products subject to the order are currently classified under HTSUS subheadings 7326.20.0020 and 7323.99.9060.

Although the HTSUS subheadings are provided for convenience and customs purposes, the written description of the merchandise is dispositive.

Final Results of Changed Circumstances Review; Partial Revocation of Antidumping Duty Order

In accordance with section 751(b) of the Act and 19 CFR 351.222(g), the Department continues to find, as it did in the Initiation and Preliminary Results, that U.S. producers representing substantially all of the production of the domestic like product pertaining to the part of the Order to be revoked have expressed a lack of interest in the part of the revoked Order. Specifically, we find that Petitioner and Supporters represent substantially all U.S. production of the like product, have expressed an affirmative statement of no interest concerning chrome-plated steel wire garment hangers with a diameter of 3.4 mm or greater, as described herein, and that this constitutes changed circumstances sufficient to warrant revocation of this Order in part. Additionally, although the Department requested domestic production data from Merrick and Petitioner, Merrick subsequently withdrew its opposition to Petitioner's request to revoke the Order, in part. Therefore, the Department finds that there is no domestic industry opposition, on the record of this review, to Petitioner's request to revoke the Order, in part, with regard to chrome-plated steel wire garment hangers with a diameter of 3.4 mm or greater. Accordingly, the Department is partially revoking the Order on steel wire garment hangers from the PRC with respect to chrome-plated steel wire garment hangers with a diameter of 3.4 mm or greater, in accordance with sections 751(b), (d) and 782(h) of the Act, and 19 CFR 351.216(d) and 351.222(g) of the Department's regulations.

In this changed circumstances review we are revoking the Order, in part, retroactively, in accordance with our normal practice for this type of changed circumstances review,⁴ to March 25, 2008, (the effective date of the Preliminary Determination ⁵ in the original less-than-fair-value-investigation) because entries on or after this date are not yet subject to a final determination of the amount of antidumping duty by the Department. We will instruct the U.S. Customs and Border Protection to liquidate without regard to antidumping duties, as applicable, and to refund any estimated cash deposits collected for all unliquidated entries of chrome-plated steel wire garment hangers with a diameter of 3.4 mm or greater, meeting the specifications indicated above, made on or after March 25, 2008, in accordance with 19 CFR 351.222.

⁴ See Stainless Steel Bar From the United Kingdom: Notice of Final Results of Changed Circumstances Review and Revocation of Order, in Part, 72 FR 65706 (November 23, 2007); see also Notice of Final Results of Antidumping Duty Changed Circumstances Review and Revocation of Order In Part: Certain Corrosion-Resistant Carbon Steel Flat Products from Germany, 71 FR 66163 (November 13, 2006).

⁵ See Preliminary Determination of Sales at Less Than Fair Value: Steel Wire Garment Hangers from the People's Republic of China, 73 FR 15726 (March 25, 2008) (“Preliminary Determination”).

This notice also serves as a reminder to parties subject to administrative protective orders (“APO”s) of their responsibility concerning the disposition of proprietary information disclosed under APO in accordance with 19 CFR 351.306. Timely written notification of the return/destruction of APO materials or conversion to judicial protective order is hereby requested. Failure to comply with the regulations and terms of an APO is a sanctionable violation.

This changed circumstances administrative review, partial revocation of the antidumping duty order and notice are in accordance with sections 751(b), (d) and 782(h) of the Act, and 19 CFR 351.216(e) and 351.222(g).

Dated: September 24, 2009.
Ronald K. Lorentzen,
Acting Assistant Secretary for Import Administration.

[FR Doc. E9-23798 Filed 10-1-09; 8:45 am]

BILLING CODE 3510-DS-P